DEPARTMENT OF ENERGY

Federal Energy Regulatory Commission

Combined Notice of Filings

Take notice that the Commission has received the following Natural Gas Pipeline Rate and Refund Report filings:

Docket Number: PR20-64-000.

Applicants: Southern California Gas Company.

Description: Tariff filing per 284.123(b), (e) + (g): Offshore_Delivery_Service_Rate_Revision_May_2020 to be effective 5/1/2020.

Filed Date: 5/28/2020.

Accession Number: 202005285311.

Comments Due: 5 p.m. ET 6/18/2020.

284.123(g) Protests Due: 5 p.m. ET 7/27/2020.

Docket Numbers: RP20-898-000.

Applicants: Texas Eastern Transmission, LP.

Description: § 4(d) Rate Filing: Negotiated Rates—NJR 911065, 911121, 911158, 910530 to be effective 6/1/2020.

Filed Date: 5/29/20.

Accession Number: 20200529-5038.

Comments Due: 5 p.m. ET 6/10/20.

Docket Numbers: RP20-899-000.

Applicants: Transcontinental Gas Pipe Line Company, LLC.

Description: § 4(d) Rate Filing: Rate Schedule S-2 Tracker Filing (ASA) eff 6/1/2020 to be effective 6/1/2020.

Filed Date: 5/29/20.

Accession Number: 20200529-5039.

Comments Due: 5 p.m. ET 6/10/20.

Docket Numbers: RP20-900-000.

Applicants: MoGas Pipeline LLC.

Description: § 4(d) Rate Filing: MoGas Negotiated Rate Agreement Filing to be effective 7/1/2020.

Filed Date: 5/29/20.

Accession Number: 20200529-5063.

Comments Due: 5 p.m. ET 6/10/20.

Docket Numbers: RP20-901-000.

Applicants: Tennessee Gas Pipeline Company, L.L.C.

Description: § 4(d) Rate Filing: PCB Adjustment Period Extension through 2022 to be effective 7/1/2020.

Filed Date: 5/29/20.

Accession Number: 20200529-5078.

Comments Due: 5 p.m. ET 6/10/20.

Docket Numbers: RP20-902-000.

Applicants: El Paso Natural Gas Company, L.L.C.

Description: § 4(d) Rate Filing: Negotiated Rate Agreement Update (APS June 2020) to be effective 6/1/2020.

Filed Date: 5/29/20.

Accession Number: 20200529-5125.

Comments Due: 5 p.m. ET 6/10/20.

Docket Numbers: RP20-903-000.

Applicants: El Paso Natural Gas Company, L.L.C.

Description: § 4(d) Rate Filing: Negotiated Rate Agreement Update (Pioneer Jul-Sept 2020) to be effective 7/1/2020.

Filed Date: 5/29/20.

Accession Number: 20200529-5127.

Comments Due: 5 p.m. ET 6/10/20.

Docket Numbers: RP20-904-000.

Applicants: Eastern Shore Natural Gas Company.

Description: § 4(d) Rate Filing: Fuel Retention and Cash-Out Adjustment 2020 to be effective 7/1/2020.

Filed Date: 5/29/20.

Accession Number: 20200529-5141.

Comments Due: 5 p.m. ET 6/10/20.

Docket Numbers: RP20-905-000.

Applicants: Kern River Gas Transmission Company.

Description: § 4(d) Rate Filing: 2020 June Negotiated Rate Amendments to be effective 6/1/2020.

Filed Date: 5/29/20.

Accession Number: 20200529-5164.

Comments Due: 5 p.m. ET 6/10/20.

Docket Numbers: RP20-906-000.

Applicants: Columbia Gas Transmission, LLC.

Description: Compliance filing Compliance to RP20-78-000 LNG Settlement to be effective 7/1/2020.

Filed Date: 5/29/20.

Accession Number: 20200529-5175.

Comments Due: 5 p.m. ET 6/10/20.

Docket Numbers: RP20-907-000.

Applicants: Kern River Gas Transmission Company.

Description: § 4(d) Rate Filing: 2020 Cymric Meter Station to be effective 7/1/2020.

Filed Date: 5/29/20.

Accession Number: 20200529-5177.

Comments Due: 5 p.m. ET 6/10/20.

Docket Numbers: RP20-908-000.

Applicants: Alliance Pipeline L.P.

Description: § 4(d) Rate Filing: APL Section 4 Rate Case to be effective 7/1/2020.

Filed Date: 5/29/20.

Accession Number: 20200529-5210.

Comments Due: 5 p.m. ET 6/10/20.

Docket Numbers: RP20-909-000.

Applicants: Rockies Express Pipeline LLC.

Description: § 4(d) Rate Filing: REX 2020-05-29 Negotiated Rate Agreement to be effective 6/1/2020.

Filed Date: 5/29/20.

Accession Number: 20200529-5212.

Comments Due: 5 p.m. ET 6/10/20.

Docket Numbers: RP20-910-000.

Applicants: Texas Gas Transmission, LLC.

Description: § 4(d) Rate Filing: Interim Fuel Tracker Filing to be effective 7/1/2020.

Filed Date: 5/29/20.

Accession Number: 20200529-5217.

Comments Due: 5 p.m. ET 6/10/20.

Docket Numbers: RP20-911-000.

Applicants: Rockies Express Pipeline LLC.

Description: § 4(d) Rate Filing: REX 2020-05-29 Non-Conforming Negotiated Rate Amendment to be effective 6/1/2020.

Filed Date: 5/29/20.

Accession Number: 20200529-5224.

Comments Due: 5 p.m. ET 6/10/20.

Docket Numbers: RP20-912-000.

Applicants: Texas Gas Transmission, LLC.

Description: § 4(d) Rate Filing: Additional Clarifications and Clean-up Items Pending GMS to be effective 7/1/2020.

Filed Date: 5/29/20.

Accession Number: 20200529-5234.

Comments Due: 5 p.m. ET 6/10/20.

Docket Numbers: RP20-913-000.

Applicants: Gulf South Pipeline Company, LLC.

Description: § 4(d) Rate Filing: Additional Clarifications and Cleanup Items related to New GasQuest System to be effective 7/1/2020.

Filed Date: 5/29/20.

Accession Number: 20200529-5256.

Comments Due: 5 p.m. ET 6/10/20.

Docket Numbers: RP20-914-000.

Applicants: Gulf South Pipeline Company, LLC.

Description: § 4(d) Rate Filing: Amendment to Neg Rate Agmt (BP 46441 eff 6-1-2020) to be effective 6/1/2020.

Filed Date: 5/29/20.

Accession Number: 20200529-5262.

Comments Due: 5 p.m. ET 6/10/20.

Docket Numbers: RP20-915-000.

Applicants: Gulf South Pipeline Company, LLC.

Description: § 4(d) Rate Filing: Amendment to NC Neg Rate Agmt (Panda Sherman 624) to be effective 6/1/2020.

Filed Date: 5/29/20.

Accession Number: 20200529-5265.

Comments Due: 5 p.m. ET 6/10/20.

Docket Numbers: RP20-916-000.

Applicants: Gulf South Pipeline Company, LLC.

Description: § 4(d) Rate Filing: Cap Rel Neg Rate Agmts (Atlanta Gas 8438 releases eff 6-1-2020) to be effective 6/1/2020.

Filed Date: 5/29/20.

Accession Number: 20200529-5266.

Comments Due: 5 p.m. ET 6/10/20.

Docket Numbers: RP20-917-000.

Applicants: Northern Natural Gas Company.

Description: § 4(d) Rate Filing: 20200529 Negotiated Rates to be effective 6/1/2020.

Filed Date: 5/29/20.

Accession Number: 20200529-5270.

Comments Due: 5 p.m. ET 6/10/20.

Docket Numbers: RP20-918-000.

Applicants: Devon Gas Services, L.P., BKV Barnett, LLC.

Description: Joint Petition for Temporary Waiver of Capacity Release Regulations, et al. of Devon Gas Services, L.P., et al. under RP20-918.

Filed Date: 5/29/20.

Accession Number: 20200529-5272.

Comments Due: 5 p.m. ET 6/10/20.

Docket Numbers: RP20-919-000.

Applicants: El Paso Natural Gas Company, L.L.C.

Description: § 4(d) Rate Filing: Non-Conforming Agreements Filing (Sempra_SRP) to be effective 7/1/2020.

Filed Date: 5/29/20.

Accession Number: 20200529-5300.

Comments Due: 5 p.m. ET 6/10/20.

Docket Numbers: RP20-920-000.

Applicants: Discovery Gas Transmission LLC.

Description: § 4(d) Rate Filing: Discovery Gas Transmission LLC's 2019 Fuel, Lost and Unaccounted for Gas to be effective 7/1/2020.

Filed Date: 5/29/20.

Accession Number: 20200529-5301.

Comments Due: 5 p.m. ET 6/10/20.

Docket Numbers: RP20-921-000.

Applicants: Maritimes & Northeast Pipeline, L.L.C.

Description: § 4(d) Rate Filing: Maritimes & Northeast Pipeline, L.L.C. 2020 Section 4 Rate Case Filing to be effective 7/1/2020.

Filed Date: 5/29/20.

Accession Number: 20200529-5374.

Comments Due: 5 p.m. ET 6/10/20.

Docket Numbers: RP20-922-000.

Applicants: Eastern Shore Natural Gas Company.

Description: Compliance filing Incremental Rate Schedule: CP18-548 Del-Mar Energy Pathway to be effective 6/1/2020.

Filed Date: 5/29/20.

Accession Number: 20200529-5414.

Comments Due: 5 p.m. ET 6/10/20.

Docket Numbers: RP20-923-000.

Applicants: Eastern Shore Natural Gas Company.

Description: Compliance filing Non-Conforming and Negotiated Rates—Del-Mar Energy Pathway Project to be effective 6/1/2020.

Filed Date: 5/29/20.

Accession Number: 20200529-5425.

Comments Due: 5 p.m. ET 6/10/20.

Docket Numbers: RP20-924-000.

Applicants: MarkWest Pioneer, L.L.C.

Description: § 4(d) Rate Filing: Quarterly Fuel Adjustment Filing to be effective 7/1/2020.

Filed Date: 5/29/20.

Accession Number: 20200529-5460.

Comments Due: 5 p.m. ET 6/10/20.

Docket Numbers: RP20-925-000.

Applicants: Tallgrass Interstate Gas Transmission, LLC.

Description: § 4(d) Rate Filing: TIGT 2020-05-29 Negotiated Rate Agreement to be effective 6/1/2020.

Filed Date: 5/29/20.

Accession Number: 20200529-5485.

Comments Due: 5 p.m. ET 6/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2020.
Nathaniel J. Davis, Sr.,
Deputy Secretary.

[FR Doc. 2020-12221 Filed 6-4-20; 8:45 am]

BILLING CODE 6717-01-P